OVERSEAS PRIVATE INVESTMENT CORPORATION

April 7, 2009 Public Hearing

OPIC's Sunshine Act notice of its Annual Public Hearing meeting was published in the Federal Register (Volume 74, Number 56, Page 12913) on March 25, 2009. No requests were received to provide testimony or submit written statements for the record; therefore, OPIC's annual public hearing scheduled for 2 p.m. on April 7, 2009 has been cancelled.

Contact Person for Information: Information on the hearing cancellation may be obtained from Connie M. Downs at (202) 336-8438, via facsimile at (202) 218-0136, or via e-mail at Connie.Downs@opic.gov.

Dated: April 3, 2009.
Connie M. Downs,
OPIC Corporate Secretary.

[FR Doc. E9-7922 Filed 4-3-09; 11:15 am]

BILLING CODE 3210-01-P